ENVIRONMENTAL PROTECTION AGENCY

[FRL-9493-4]

Proposed CERCLA Administrative Cost Recovery Settlement; River Forest Dry Cleaners Site, River Forest, Cook County, IL

AGENCY: Environmental Protection Agency (EPA).

ACTION: Notice; request for public comment.

SUMMARY: In accordance with Section 122(i) of the Comprehensive Environmental Response, Compensation, and Liability Act, as amended (“CERCLA”), 42 U.S.C. 9622(i), notice is hereby given of a proposed administrative settlement for recovery of past response costs concerning the River Forest Dry Cleaners site in River Forest, Cook County, Illinois with the following settling party: Edward Ditchfield. The settlement requires the Settling Party to pay $39,926, plus any interest accrued between the date of receipt of notice by the Settling Party that EPA has signed the CERCLA 122(h), 42 U.S.C. 9622(h) Settlement Agreement (Agreement) and the Effective Date of the Agreement, to the Hazardous Substance Superfund through an escrow account to be established by the Settling Party. The settlement includes a covenant not to sue the Settling Party pursuant to Section 107(a) of CERCLA, 42 U.S.C. 9607(a), and contribution protection for the Settling Party pursuant to Sections 113(f)(2) and 122(h)(4) of CERCLA, 42 U.S.C. 9613(f)(2) and 9622(h)(4). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the EPA, Region 5, Records Center, 77 W. Jackson Blvd., 7th Fl., and Chicago, Illinois 60604.

DATES: Comments must be submitted on or before December 19, 2011.

ADDRESSES: The proposed settlement is available for public inspection at the EPA, Region 5, Records Center, 77 W. Jackson Blvd., 7th Fl., Chicago, Illinois 60604. A copy of the proposed settlement may be obtained from Peter Felitti, Assoc. Regional Counsel, EPA, Office of Regional Counsel, Region 5, 77 W. Jackson Blvd., mail code: C-14J, Chicago, Illinois 60604. Comments should reference the River Forest Dry Cleaners Site, River Forest, Cook County, Illinois and EPA Docket No. and should be addressed to Peter Felitti, Assoc. Regional Counsel, EPA, Office of Regional Counsel, Region 5, 77 W. Jackson Blvd., mail code: C-14J, Chicago, Illinois 60604.

FOR FURTHER INFORMATION CONTACT: Peter Felitti, Assoc. Regional Counsel, EPA, Office of Regional Counsel, Region 5, 77 W. Jackson Blvd., mail code: C-14J, Chicago, Illinois 60604.

SUPPLEMENTARY INFORMATION: The River Forest Dry Cleaners Superfund Site is located in River Forest, Cook County, Illinois. After EPA received an email from a concerned teacher, U.S. EPA conducted indoor air and sub-slab samples in facilities around the Site in November 2009, February 2010 and March 2010. The results did not indicate any level of contamination that warranted a removal action. The removal assessment was completed in March 2010.

U.S. EPA issued a Demand Letter to the Settling Party in September 2010. Between September 2010 and July 2011, EPA and the Settling Party negotiated the present proposed Administrative Settlement.

Dated: September 28, 2011.
Richard C. Karl,
Director, Superfund Division.

[FR Doc. 2011-29757 Filed 11-16-11; 8:45 am]

BILLING CODE 6560-50-P